ENVIRONMENTAL PROTECTION AGENCY

[FRL-12926-01-R6]

Clean Air Act Operating Permit Program; Petition for Objection to State Operating Permit for Valero Energy Partners, L.P., Harris County, Texas

AGENCY: Environmental Protection Agency (EPA).

ACTION: Notice of final order on petition.

SUMMARY: The Environmental Protection Agency (EPA) Administrator signed an Order dated July 18, 2025, granting in part and denying in part a petition dated December 3, 2024, from Texas Environmental Justice Advocacy Services, Caring for Pasadena Communities, and Lone Star Chapter of the Sierra Club (the Petitioners). The petition requested that the EPA object to a Clean Air Act (CAA) title V operating permit issued by the Texas Commission on Environmental Quality (TCEQ) to Valero Energy Partners, L.P., for its Valero Houston Refinery Tank Farm located in Harris County, Texas.

FOR FURTHER INFORMATION CONTACT: Aimee Wilson, EPA Region 6 Office, Air Permits Section, (214) 665-7596, wilson.aimee@epa.gov. The final order and petition are available electronically at: https://www.epa.gov/title-v-operating-permits/title-v-petition-database.

SUPPLEMENTARY INFORMATION: The EPA received a petition from Texas Environmental Justice Advocacy Services, Caring for Pasadena Communities, and Lone Star Chapter of the Sierra Club dated December 3, 2024, requesting that the EPA object to the issuance of operating permit No. O3784, issued by TCEQ to Valero Energy Partners, L.P., for its Valero Houston Refinery Tank Farm located in Harris County, Texas. On July 18, 2025, the EPA Administrator issued an Order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than October 14, 2025.

Dated: August 12, 2025.
James McDonald,
Director, Air and Radiation Division, Region 6.

[FR Doc. 2025-15494 Filed 8-13-25; 8:45 am]

BILLING CODE 6560-50-P